DEPARTMENT OF VETERANS AFFAIRS

Privacy Act of 1974; System of Records

AGENCY: Department of Veterans Affairs (VA).

ACTION: Notice of amendment to system of records.

SUMMARY: As required by the Privacy Act of 1974, 5 U.S.C. 552a(e), notice is hereby given that the Department of Veterans Affairs (VA) is amending the system of records entitled “The Revenue Program—Billing and Collections Records—VA” (114VA16) as set forth in the Federal Register 67 FR 41573 and as amended in 69 FR 4205 and 70 FR 55207. VA is amending the system of records by revising the Purpose and Routine Uses of Records Maintained in the System.

DATES: Comments on the amendment of this system of records must be received no later than April 11, 2008. If no public comment is received, the amended system will become effective April 11, 2008.

ADDRESSES: Written comments concerning the proposed amended system of records may be submitted by: mail or hand-delivery to Director, Regulations Management (00REG1), Department of Veterans Affairs, 810 Vermont Avenue, NW., Room 1068, Washington, DC 20420; fax to (202) 273-9026; or e-mail to VAregulations@mail.va.gov. All comments received will be available for public inspection in the Office of Regulation Policy and Management, Room 1063B, between the hours of 8 a.m. and 4:30 p.m., Monday through Friday (except holidays). Please call (202) 273-9515 for an appointment.

FOR FURTHER INFORMATION CONTACT: Stephania H. Putt, Veterans Health Administration (VHA) Privacy Act Officer, Department of Veterans Affairs, 810 Vermont Avenue, NW., Washington, DC 20420; telephone (704) 245-2492.

SUPPLEMENTARY INFORMATION: VA is amending “The Revenue Program—Billing and Collections Records-VA” (114VA16) to allow for the disclosure of the National Provider Identifier (NPI) of VA health care providers (individual practitioners) (1) to non-VA health care providers or their agents to support, or in anticipation of supporting, the submission of health care reimbursement claims by non-VA health care providers or their agents, and (2) to academic affiliates with which VA maintains a business relationship, to support, or in anticipation of supporting, the submission of health care reimbursement claims by these academic affiliates. Purpose(s) is amended to reflect how the data may be used to disclose individual NPI numbers to non-VA health care providers, their agents, and to academic affiliates with which VA maintains a business relationship.

We are proposing to establish the following Routine Use disclosure of information maintained in the system:

A new Routine Use eighteen (18) is added. Individual NPIs may be disclosed to a non-VA health care provider or its agent for treatment of a veteran or in anticipation of treatment of a veteran where the VA referring provider's NPI is needed, or is anticipated to be needed, in order for the non-VA health care provider or its agent to submit a health care reimbursement claim or for any other lawful use of the NPI as specified in the Health Insurance Portability and Accountability Act (HIPAA) legislation (45 CFR Part 162).

A new Routine Use nineteen (19) is added. Individual NPIs may be disclosed to an academic affiliate with which VA maintains a business relationship, where the VA provider (individual practitioner) also maintains an appointment to that academic affiliate's medical staff. This disclosure is to support, or in anticipation of supporting, a health care reimbursement claim or for any other lawful use of the NPI as specified in the HIPAA (Health Insurance Portability and Accountability Act) legislation (45 CFR Part 162).

A new Routine Use twenty (20) is added. Any records may be disclosed to appropriate agencies, entities, and persons under the following circumstances: when (1) it is suspected or confirmed that the security or confidentiality of information in the system of records has been compromised; (2) the Department has determined that as a result of the suspected or confirmed compromise there is a risk of embarrassment or harm to the reputations of the record subjects, harm to economic or property interests, identity theft or fraud, or harm to the security or integrity of this system or other systems or programs (whether maintained by the Department or another agency or entity) that rely upon the compromised information; and (3) the disclosure is made to such agencies, entities, and persons who are reasonably necessary to assist in connection with the Department's efforts to respond to the suspected or confirmed compromise and prevent, minimize, or remedy such harm. This disclosure is to support mitigation efforts of the Department when a compromise to information in the system of records occurs.

A new Routine Use twenty (21) is added. VA may disclose information in this system of records to the Department of Justice (DoJ), either on VA's initiative or in response to DoJ's request for the information, after either VA or DoJ determines that such information is relevant to DoJ's representation of the United States or any of its components in legal proceedings before a court or adjudicative body, provided that, in each case, the agency also determines prior to disclosure that release of the records to the DoJ is a use of the information contained in the records that is compatible with the purpose for which VA collected the records. VA, on its own initiative, may disclose records in this system of records in legal proceedings before a court or administrative body after determining that the disclosure of the records to the court or administrative body is a use of the information contained in the records that is compatible with the purpose for which VA collected the records.

A new Routine Use twenty (22) is added. Disclosure to other Federal agencies may be made to assist such agencies in preventing and detecting possible fraud or abuse by individuals in their operations and programs.

The Privacy Act permits VA to disclose information about individuals without their consent for a routine use when the information will be used for a purpose that is compatible with the purpose for which we collected the information. In all of the routine use disclosures described above, the recipient of the information will use the information in connection with a matter relating to one of VA's programs, will use the information to provide a benefit to VA, or disclosure is required by law.

The Report of Intent to Amend a System of Records Notice and an advance copy of the system notice have been sent to the appropriate Congressional committees and to the Director of the Office of Management and Budget (OMB) as required by 5 U.S.C. 552a(r) (Privacy Act) and guidelines issued by OMB (65 FR 77677), December 12, 2000.

Approved: February 25, 2008.
Gordon H. Mansfield,
Deputy Secretary of Veterans Affairs.

Notice of Amendment to System of Records

The system of records identified as 114VA16 “The Revenue Program—Billing and Collections Records—VA,” published at 67 FR 41573, June 18, 2002, and amended at 69 FR 4205, January 28, 2004, and amended at 70 FR 55207, September 20, 2005, is revised to amend the purpose section and add routine use number 18, 19 and 20 as follows:

114VA16

SYSTEM NAME:

The Revenue Program—Billing and Collections Records—VA.

PURPOSE(S):

The records and information are used for the billing of, and collections from, a third party payer, including insurance companies, other Federal agencies, or foreign governments, for medical care or services received by a veteran for a nonservice-connected condition or from a first party veteran required to make co-payments. The records and information are also used for the billing of and collections from other Federal agencies for medical care or services received by an eligible beneficiary. The data may be used to identify and/or verify insurance coverage of a veteran or veteran's spouse prior to submitting claims for medical care or services. The data may be used to support appeals for non-reimbursement of claims for medical care or services provided to a veteran. The data may be used to enroll health care providers with health plans and VA's health care clearinghouse in order to electronically file third party claims. For the purposes of health care billing and payment activities to and from third party payers, VA will disclose information in accordance with the legislatively-mandated transaction standard and code sets promulgated by the United States Department of Health and Human Services (HHS) under the Health Insurance Portability and Accountability Act (HIPAA).

The data may be used to make application for an NPI, as required by the HIPAA Administrative Simplification Rule on Standard Unique Health Identifier for Healthcare Providers, 45 CFR Part 162, for all health care professionals providing examination or treatment within VA health care facilities, including participation in pilot test of NPI enumeration system by the Centers of Medicare and Medicaid Services (CMS). The records and information may be used for statistical analyses to produce various management, tracking and follow-up reports, to track and trend the reimbursement practices of insurance carriers, and to track billing and collection information. The data may be used to support, or in anticipation of supporting, reimbursement claims from non-VA health care providers or their agents. The data may be used to support, or in anticipation of supporting, reimbursement claims from academic affiliates with which VA maintains a business relationship.

ROUTINE USES OF RECORDS MAINTAINED IN THE SYSTEM, INCLUDING CATEGORIES OF USERS AND THE PURPOSES OF SUCH USES:

* * * * *

18. Relevant information may be disclosed to non-VA health care providers or their agents where the non-VA health care provider provides health care treatment to veterans and requires the Department provide that information in order for that entity or its agent to submit, or in anticipation of submission of, a health care reimbursement claim or, in the case of the NPI, for permissible purposes specified in the HIPAA legislation (45 CFR Part 162).

19. Relevant information may be disclosed to an academic affiliate with which VA maintains a business relationship, where the VA provider also maintains an appointment to that academic affiliate's medical staff. This disclosure is to support, or in anticipation of supporting, a health care reimbursement claim(s) or, in the case of the NPI, for permissible purposes specified in the HIPAA legislation (45 CFR Part 162).

20. Any records may be disclosed to appropriate agencies, entities, and persons under the following circumstances: When (1) it is suspected or confirmed that the security or confidentiality of information in the system of records has been compromised; (2) the Department has determined that as a result of the suspected or confirmed compromise there is a risk of embarrassment or harm to the reputations of the record subjects, harm to economic or property interests, identity theft or fraud, or harm to the security or integrity of this system or other systems or programs (whether maintained by the Department or another agency or entity) that rely upon the compromised information; and (3) the disclosure is made to such agencies, entities, and persons who are reasonably necessary to assist in connection with the Department's efforts to respond to the suspected or confirmed compromise and prevent, minimize, or remedy such harm.

21. VA may disclose information in this system of records to the Department of Justice (DoJ), either on VA's initiative or in response to DoJ's request for the information, after either VA or DoJ determines that such information is relevant to DoJ's representation of the United States or any of its components in legal proceedings before a court or adjudicative body, provided that, in each case, the agency also determines prior to disclosure that release of the records to the DoJ is a use of the information contained in the records that is compatible with the purpose for which VA collected the records. VA, on its own initiative, may disclose records in this system of records in legal proceedings before a court or administrative body after determining that the disclosure of the records to the court or administrative body is a use of the information contained in the records that is compatible with the purpose for which VA collected the records.

22. Disclosure to other Federal agencies may be made to assist such agencies in preventing and detecting possible fraud or abuse by individuals in their operations and programs.

* * * * *

[FR Doc. E8-4896 Filed 3-11-08; 8:45 am]

BILLING CODE 8320-01-P